DEPARTMENT OF JUSTICE

[OMB Number 1121-0094]

Agency Information Collection Activities; Proposed eCollection eComments Requested; Annual Survey of Jails (ASJ)

AGENCY: Bureau of Justice Statistics, Department of Justice.

ACTION: 30-Day notice.

SUMMARY: The Department of Justice (DOJ), Office of Justice Programs, Bureau of Justice Statistics, will be submitting the following information collection request to the Office of Management and Budget (OMB) for review and approval in accordance with the Paperwork Reduction Act of 1995. The proposed information collection was previously published in the Federal Register, on February 22, 2023, allowing a 60-day comment period. Following publication of the 60-day notice, the Bureau of Justice Statistics received four comments. Two of the comments expressed support for the continuation of the Annual Survey of Jails. The other two comments suggested new items to collect in the survey, including diagnosed disability and education level at admission; education and job training received during incarceration; job preparedness upon release; information on people who identify as transgender; jail population counts by combined race/ethnicity and sex categories; and admissions and releases from jail by race/ethnicity.

DATES: Comments are encouraged and will be accepted for 30 days until June 15, 2023.

FOR FURTHER INFORMATION CONTACT: If you have comments especially on the estimated public burden or associated response time, suggestions, or need a copy of the proposed information collection instrument with instructions or additional information, please contact Zhen Zeng, Bureau of Justice Statistics, 810 Seventh Street NW, Washington, DC 20531 (email: Zhen.Zeng@usdoj.gov; telephone: 202-598-9955).

SUPPLEMENTARY INFORMATION: Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Enhance the quality, utility, and clarity of the information to be collected; and/or

—Minimize the burden of the collection of information on those who are to respond, including through the use of appropriate automated, electronic, mechanical, or other technological collection techniques or other forms of information technology, e.g., permitting electronic submission of responses.

Written comments and recommendations for this information collection should be submitted within 30 days of the publication of this notice on the following website www.reginfo.gov/public/do/ PRAMain. Find this particular information collection by selecting “Currently under 30-day Review—Open for Public Comments” or by using the search function and entering either the title of the information collection or the OMB Control Number 1121-0094. This information collection request may be viewed at www.reginfo.gov. Follow the instructions to view Department of Justice, information collections currently under review by OMB.

DOJ seeks PRA authorization for this information collection for three (3) years. OMB authorization for an ICR cannot be for more than three (3) years without renewal. The DOJ notes that information collection requirements submitted to the OMB for existing ICRs receive a month-to-month extension while they undergo review.

Overview of This Information Collection

1. Type of Information Collection: Revision of a currently approved collection.

2. Title of the Form/Collection: Annual Survey of Jails (ASJ).

3. Agency form number, if any, and the applicable component of the Department of Justice sponsoring the collection: Form: CJ-5, The applicable component within the Department of Justice is the Bureau of Justice Statistics (BJS), in the Office of Justice Programs.

4. Affected public who will be asked or required to respond, as well as a brief abstract: Affected Public: State, Local and Tribal Governments. Abstract: The ASJ is the only national collection that tracks annual changes in the local jail population in the United States and provides national estimates on the number of persons confined in jails, the number of persons jails supervised in programs outside jail, characteristics of the jail population, counts of admissions and releases, and number of staff employed. Policymakers, correctional administrators, and government officials use the ASJ data to develop new policies and procedures, plan budgets, and maintain critical oversight. The ASJ is fielded every year except in the years when BJS conducts the Census of Jails (OMB Control No. 1121-0100). BJS requests clearance for the 2023 and 2025 ASJ under OMB Control No. 1121-0094. In 2024, BJS plans to conduct the Census of Jails and will not field the ASJ in the same year. In 2023, BJS will introduce a verification module to the web instrument to update (1) the agency's contact information; (2) regional and private jail flags; (3) the name and address of the facilities under the agency's jurisdiction; and (4) eligibility of each facility to be included in the ASJ.

5. Obligation to Respond: Voluntary.

6. Total Estimated Number of Respondents: 940.

7. Total Estimated Number of Responses: 940.

8. Time per Response: 88 minutes.

9. Total Estimated Annual Time Burden: 1,378 hours.

10. Total Estimated Annual Other Costs Burden: $0.

If additional information is required, contact: John R. Carlson, Department Clearance Officer, Policy and Planning Staff, Justice Management Division, United States Department of Justice, Two Constitution Square, 145 N Street NE, 4W-218 Washington, DC 20530.

Dated: May 4, 2023.
John R. Carlson,
Department Clearance Officer for PRA, U.S. Department of Justice.

[FR Doc. 2023-09886 Filed 5-15-23; 8:45 am]

BILLING CODE 4410-18-P